DEPARTMENT OF COMMERCE

International Trade Administration

[A-570-899]

Notice of Postponement of Preliminary Determination of Antidumping Duty Investigation: Certain Artist Canvas from the People's Republic of China

AGENCY: Import Administration, International Trade Administration, Department of Commerce.

EFFECTIVE DATE: October 13, 2005.

FOR FURTHER INFORMATION CONTACT: Jon Freed or Robert Bolling, Import Administration, International Trade Administration, U.S. Department of Commerce, 14th Street and Constitution Avenue, N.W., Washington, DC 20230; telephone: (202) 482-3818 or (202) 482-3434, respectively.

SUPPLEMENTARY INFORMATION:

Postponement of Preliminary Determination

On April 28, 2005, the Department of Commerce (“Department”) published the initiation of the antidumping duty investigation of imports of certain artist canvas from the People's Republic of China. See Initiation of Antidumping Duty Investigation: Certain Artist Canvas from the People's Republic of China, 70 FR 21996 (April 28, 2005). The notice of initiation stated that we would make our preliminary determination for this antidumping duty investigation no later than 140 days after the date of issuance of the initiation.

On August 11, 2005, Tara Materials Inc. (“Petitioner”) made a timely request pursuant to 19 CFR §351.205(e) for a 29-day postponement of the preliminary determination until October 7, 2005. On August 19, 2005, the Department published a notice in the Federal Register postponing the preliminary determination by 29 days to October 7, 2005. See Notice of Postponement of Preliminary Determination of Antidumping Duty Investigation: Certain Artist Canvas from the People's Republic of China, 70 FR 48667, (August 19, 2005).

On September 29, 2005, Petitioner made a timely request for a postponement of the preliminary determination for the maximum period authorized by section 733(c)(1)(A) of the Tariff Act of 1930, as amended (“the Act”), until October 28, 2005. Petitioner requested postponement of the preliminary determination because it believes extraordinarily complex issues exist with respect to this case and additional time is necessary to allow it to review the responses to the supplemental questionnaires and submit comments to the Department, and also to allow the Department time to analyze thoroughly the respondents' data and to seek additional information, if necessary.

Under section 733(c)(1)(A) of the Act, if Petitioner makes a timely request for a postponement of the preliminary determination, the Department may postpone the preliminary determination under subsection (b)(1) until no later than the 190th day after the initiation of the investigation.

Therefore, for the reasons identified by Petitioner, and because there are no compelling reasons to deny the request, we are postponing the preliminary determination under section 733(c)(1)(A) of the Act by an additional 21 days to October 28, 2005. The deadline for the final determination will continue to be 75 days after the date of the preliminary determination.

This notice is issued and published pursuant to sections 733(c)(2) of the Act and 19 CFR 351.205(f)(i).

Dated: October 5, 2005.
Joseph A. Spetrini,
Acting Assistant Secretary for Import Administration.

[FR Doc. E5-5602 Filed 10-12-05; 8:45 am]

BILLING CODE 3510-DS-S